DEPARTMENT OF THE TREASURY

Submission for OMB Review; Comment Request

July 11, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 16, 2006 to be assured of consideration.

Internal Revenue Service (IRS)

OMB Number: 1535-0004.

Type of Review: Extension.

Title: Special Form of Request for Payment of U.S. Savings and Retirement Sec. Where Use of a Detached Request is Authorized.

Form: PD F 1522.

Description: The form is used to request payment of U.S. Savings Securities.

Respondents: Individuals and households.

Estimated Total Burden Hours: 14,000 hours.

OMB Number: 1535-0008.

Type of Review: Extension.

Title: Request for Reissue of U.S. Savings Bonds to Remove Name of One or More Living Registrants.

Form: PD F 1938.

Description: The form is used to request reissue of savings bonds to remove one or more living registrants.

Respondents: Individuals or households.

Estimated Total Burden Hours: 14,529 hours.

OMB Number: 1535-0014.

Type of Review: Extension.

Title: Claim for Lost, Stolen, or Destroyed United States Registered Securities.

Form: PD F 1025.

Description: The form is used to support request for relief of lost, stolen, or destroyed U.S. Registered Securities.

Respondents: Individuals or households.

Estimated Total Burden Hours: 460 hours.

OMB Number: 1535-0015.

Type of Review: Extension.

Title: Report/Appl. For Relief of Loss, Theft, or Destruction of U.S. Bearer Securities.

Form: PD F 1022.

Description: The form is used to obtain relief for lost, stolen, or destroyed bearer securities.

Respondents: Business or other for-profit, not-for-profit institutions, Federal, state, local, and tribal governments.

Estimated Total Burden Hours: 92 hours.

OMB Number: 1535-0016.

Type of Review: Extension.

Title: Report/Appl. For Relief of Loss, Theft, Destruction of U.S. Bearer Securities.

Form: Form 1022-1.

Description: The form is used by individuals to request relief of the loss, theft, or destruction of bearer securities.

Respondents Individuals or households.

Estimated Total Burden Hours: 92 hours.

OMB Number: 1535-0067.

Type of Review: Extension.

Title: Affidavit of Forgery For United States Savings Bonds.

Form: PD F 0974.

Description: The form is used to certify that a signature was forged for a United States Savings Bond.

Respondents: Individuals or households.

Estimated Total Burden Hours: 625 hours.

OMB Number: 1535-0098.

Type of Review: Extension.

Title: Claim for Relief on Account of the Non-Receipt of United States Savings Bonds.

Form: PD F 3062-4.

Description: The form is used by the application by the owner of a U.S. Savings Bond to request a substitute bond in lieu of a bond not received.

Respondents: Individuals or households.

Estimated Total Burden Hours: 4,175 hours.

Clearance Officer: Vicki S. Thorpe, (304) 480-8150, Bureau of the Public Debt, 200 Third Street, Parkersburg, West Virginia 26106.

OMB Reviewer: Alexander T. Hunt, (202) 395-7316, Office of Management and Budget, Room 10235, New Executive Office Building, Washington, DC 20503.

Robert Dahl,
Treasury PRA Clearance Officer.

[FR Doc. E6-11146 Filed 7-14-06; 8:45 am]

BILLING CODE 4810-39-P